NUCLEAR REGULATORY COMMISSION

[Docket Nos. 50-282 and 50-306]

Nuclear Management Company, LLC; Prairie Island Nuclear Generating Plant, Units 1 and 2; Environmental Assessment and Finding of No Significant Impact

The U.S. Nuclear Regulatory Commission (NRC) is considering issuance of amendments to Facility Operating License Nos. DPR-42 and DPR-60, issued to Nuclear Management Company, LLC (the licensee) for operation of the Prairie Island Nuclear Generating Plant, Units 1 and 2, located in Goodhue County, Minnesota. Pursuant to title 10 of the Code of Federal Regulations (10 CFR) sections 51.21 and 51.32, the NRC is issuing this environmental assessment and finding of no significant impact.

Environmental Assessment

Identification of the Proposed Action

The proposed action would be a full conversion from the current technical specifications (CTS) to a set of improved technical specifications (ITS) based on NUREG-1431, “Standard Technical Specifications, Westinghouse Plants,” Revision 1, dated April 1995. The proposed action is in accordance with the licensee's application dated December 11, 2000, as supplemented by letters dated March 6, July 3, August 13, November 12, and December 12, 2001, and January 25, January 31, February 14, February 15, February 16, March 6, April 11, May 10, May 30, June 7, June 25, and June 28, 2002.

The Need for the Proposed Action

The Commission's “Proposed Policy Statement on Technical Specifications Improvements for Nuclear Power Reactors” (52 FR 3788), dated February 6, 1987, contained an Interim Policy Statement that set forth objective criteria for determining which regulatory requirements and operating restrictions should be included in the technical specifications (TS). When it issued the Interim Policy Statement, the Commission also requested comments on it. Subsequently, to implement the Interim Policy Statement, each reactor vendor owners group and the NRC staff began developing standard TS (STS) for reactors supplied by each vendor. The Commission then published its “Final Policy Statement on Technical Specifications Improvements for Nuclear Power Reactors” (58 FR 39132), dated July 22, 1993, in which it addressed comments received on the Interim Policy Statement, and incorporated experience in developing the STS. The Final Policy Statement formed the basis for a revision to 10 CFR 50.36 (60 FR 36953), dated July 19, 1995, that codified the criteria for determining the content of TS. The NRC Committee to Review Generic Requirements reviewed the STS, made note of their safety merits, and indicated its support of conversion by operating plants to the STS. For the Prairie Island Nuclear Generating Plant, Units 1 and 2, the STS are NUREG-1431, “Standard Technical Specifications, Westinghouse Plants,” Revision 1, dated April 1995. This document formed the basis for the Prairie Island Nuclear Generating Plant, Units 1 and 2, conversion.

The proposed changes to the CTS are based on NUREG-1431 and guidance provided in the Final Policy Statement. The objective of this action is to completely rewrite, reformat, and streamline the CTS (i.e., to convert the CTS to ITS). Emphasis was placed on human factors principles to improve clarity and understanding. The Bases section has been significantly expanded to clarify and better explain the purpose and foundation of each specification. In addition to NUREG-1431, portions of the CTS were also used as the basis for the development of the Prairie Island Nuclear Generating Plant, Units 1 and 2 ITS. Plant-specific issues (i.e., unique design features, requirements, and operating practices) were discussed at length with the licensee.

The proposed changes from the CTS can be categorized into five general groupings. These groupings are characterized as administrative changes, more restrictive changes, less restrictive changes, less restrictive relocated details, and relocated specifications. Administrative changes include those changes that are editorial in nature or involve the reorganization or reformatting of CTS requirements without affecting technical content or operational restrictions.

More restrictive changes include those changes that result in added restrictions or reduced flexibility. The licensee, in electing to implement the specifications of the STS, proposed a number of requirements more restrictive than those in the CTS. The ITS requirements in this category include requirements that are either new, more conservative than corresponding requirements in the CTS, or have additional restrictions that are not in the CTS but are in the STS.

Less restrictive changes include deletions and relaxations to portions of the CTS in order to conform to the guidance of NUREG-1431, which would result in reduced restrictions or added flexibility. When requirements have been shown to provide little or no safety benefit, their relaxation or removal from the TSs may be appropriate. In most cases, relaxations previously granted to individual plants on a plant-specific basis were the result of (1) generic NRC actions, (2) new staff positions that have evolved from technological advancements and operating experience, or (3) resolution of the Owner's Groups' comments on STS.

Less restrictive relocated details include those changes to the CTS that eliminate details and relocate the details to licensee-controlled documents. Typically, this involves details of system designs, system descriptions including design limits, descriptions of system or plant operation, procedural details for meeting TS requirements and relocated reporting requirements, and redundant requirement references.

Relocated specifications include those changes to the CTS that relocate certain requirements which do not meet the 10 CFR 50.36 selection criteria. These requirements may be relocated to the Bases, updated safety analysis report, core operating limits report (COLR), operational quality assurance plan, plant procedures, or other licensee-controlled documents. Relocating requirements to licensee-controlled documents does not eliminate them, but rather, places them under more appropriate regulatory controls (i.e., 10 CFR 50.54(a)(3), and 10 CFR 50.59) to manage their implementation and future changes.

In addition to the proposed changes solely involving the conversion, there are also changes proposed that are (1) different from the requirements in both the CTS and the STS and, (2) in addition to those changes that are needed to meet the overall purpose of the conversion. These changes are referred to as beyond-scope changes and include:

1. Extension of the certain surveillance interval from 18 months to 24 months to support the proposed refueling cycle of 24 months;

2. Extension of the allowed outage time for the emergency core cooling system accumulators from 1 to 24 hours;

3. Missed surveillance consolidated line item improvement to extend the delay period for a missed surveillance requirement from the current limit of 24 hours to “* * * up to 24 hours or up to the limit of the specified Frequency, whichever is greater;”

4. Revision to the ventilation filter testing program to incorporate the guidance provided in NRC Generic Letter 99-02, “Laboratory Testing of Nuclear-Grade Activated Charcoal,” dated June 3, 1999;

5. A new methodology (to be incorporated by reference into ITS Section 5.0) that describes the method by which the shutdown margin limit during physics testing is established for inclusion within the COLR;

6. A new methodology (to be incorporated by reference to ITS Section 5.0) that describes the method by which a factor, FQA, (in support of ITS 3.2.1, Heat Flux Channel Factor) is to be determined; and

7. Plant-specific instrument setpoint methodology in support of new instrument allowable values and trip setpoints in the ITS.

Environmental Impacts of the Proposed Action

The NRC staff has completed its evaluation of the proposed action and concludes that the proposed TS conversion would not increase the probability or consequences of accidents previously analyzed and would not affect facility radiation levels or facility radiological effluents.Specifically, the proposed TS changes will not increase the probability or consequences of accidents, no changes are being made in the types or amounts of any effluent that may be released offsite, and there is no significant increase in the allowable individual or cumulative occupational radiation exposure. Therefore, there are no significant radiological environmental impacts associated with the proposed action.

With regard to potential nonradiological impacts, the proposed action does not have a potential to affect any historic sites because no previously undisturbed area will be affected by the proposed TS changes. It does not affect nonradiological plant effluents and has no other environmental impact. Therefore, there are no significant nonradiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resources than those previously considered in the Final Environmental Statement for the Prairie Island Nuclear Generating Plant, Units 1 and 2, dated May 1973.

Agencies and Persons Consulted

On July 8, 2002, the staff consulted with Ms. Linda Bruemmer of Minnesota State Division of Environmental Health regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated December 11, 2000, as supplemented by letters dated March 6, July 3, August 13, November 12, and December 12, 2001, and January 25, January 31, February 14, February 15, February 16, March 6, April 11, May 10, May 30, June 7, June 25, and June 28, 2002. Documents may be examined, and/or copied for a fee, at the NRC's Public Document Room (PDR), located at One White Flint North, 11555 Rockville Pike (first floor), Rockville, Maryland. Publicly available records will be accessible electronically from the Agencywide Documents Access and Management System (ADAMS) Public Electronic Reading Room on the internet at the NRC Web site, http://www.nrc.gov/reading-rm/adams/”adams.html”. Persons who do not have access to ADAMS or who encounter problems in accessing the documents located in ADAMS, should contact the NRC PDR Reference staff by telephone at 1-800-397-4209 or 301-415-4737, or by e-mail to pdr@nrc.gov.

Dated at Rockville, Maryland, this 15th day of July 2002.
For the Nuclear Regulatory Commission.
L. Raghavan,
Chief, Section 1, Project Directorate III, Division of Licensing Project Management, Office of Nuclear Reactor Regulation.

[FR Doc. 02-18434 Filed 7-19-02; 8:45 am]

BILLING CODE 7590-01-P